DEPARTMENT OF ENERGY

Federal Energy Regulatory Commission

[Docket No. CP05-71-001]

Gulf South Pipeline Company, LP; Notice of Cancellation of Rate Schedules

July 22, 2005.

Take notice that effective on June 20, 2005, the following rate schedules, part of the Gulf South Pipeline Company, LP (Gulf South) Original Volume No. 2 FERC Gas Tariff, are to be cancelled:

Original Volume No.2

Rate Schedule X-18 consisting of Original Sheet Nos. 109-116

Rate Schedule X-51 consisting of Original Sheet Nos. 498-501

Rate Schedule X-55 consisting of Original Sheet Nos. 518-520

Rate Schedule X-61 consisting of Original Sheet Nos. 547-550

Rate Schedule X-146 consisting of First Revised Sheet No. 1926

Original Sheet No. 1927

Substitute Original Sheet No. 1928

Original Sheet Nos. 1929-1930

First Revised Sheet Nos. 1931-1935

Original Sheet Nos. 1936-1944

First Revised Sheet Nos. 1945-1946

Rate Schedule X-148 consisting of Original Sheet Nos. 1968-1981

Rate Schedule X-170 constituting Original Sheet Nos. 2443-2457

Gulf South and Transcontinental Gas Pipe Line Corporation state that on February 15, 2005, filed a joint application pursuant to section 7(b) of the Natural Gas Act (NGA), as amended, for an order permitting and approving abandonment of certain transportation and exchange services.

Gulf South states that copies of this filing have been served upon all parties to the proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 12, 2005.

Magalie R. Salas,
Secretary.

[FR Doc. E5-4050 Filed 7-28-05; 8:45 am]

BILLING CODE 6717-01-P